DEPARTMENT OF AGRICULTURE

Agricultural Marketing Service

[Docket No. AMS-01-01]

Request for New Information Collection

AGENCY: Agricultural Marketing Service, USDA.

ACTION: Notice and request for comments.

SUMMARY: In accordance with the Paperwork Reduction Act of 1995 (44 U.S.C. Chapter 35), this notice announces the Agricultural Marketing Service's intention to request an approval for the Research and Promotion Board, Council, and Committee Membership Background Information Collection.

DATES: Comments on this notice must be received by June 5, 2001 to be assured of consideration.

ADDRESSES: Submit comments to: Docket Clerk, Research and Promotion Branch, Fruit and Vegetable Programs (FV), Agricultural Marketing Service (AMS), USDA, 1400 Independence Ave., SW., Stop 0244, Washington, DC 20250-0244; telephone (202) 720-9915; Fax (202) 205-2800; or malinda.farmer@usda.gov.

FOR FURTHER INFORMATION CONTACT: Martha Ransom at the same address and telephone number above or to martha.ransom@usda.gov.

SUPPLEMENTARY INFORMATION: Title: Research and Promotion Board, Council, and Committee Background Information.

OMB Number: 0581-NEW.

Expiration Date of Approval: New information collection—3 years from date of approval.

Type of Request: Approval of new information collection.

Abstract: The primary objective for the use of the AMS-755 form is to determine qualifications, suitability, and availability for service on national research and promotion boards, councils, and committees. The information will be used to determine whether persons nominated are eligible to serve on these entities and to conduct background clearances.

Estimate of Burden: Public reporting burden for this collection of information is estimated to average 0.5 hour per response.

Respondents: Producers, handlers, processors, importers, exporters, and public representatives (nominees for research and promotion boards, councils, and committees).

Estimated Number of Respondents: 565.

Estimated Number of Responses per Respondent: 1.

Estimated Total Annual Burden on Respondents: 283 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Martha Ransom at the above address. All comments received will be available for public inspection during regular business hours at the same address.

All responses to this notice will be summarized and included in the request for OMB approval. All comments will become a matter of public record.

Dated: April 2, 2001.
Kenneth C. Clayton,
Acting Administrator, Agricultural Marketing Service.

[FR Doc. 01-8466 Filed 4-5-01; 8:45 am]

BILLING CODE 3410-02-P